DEPARTMENT OF COMMERCE

International Trade Administration

[A-570-930]

Circular Welded Austenitic Stainless Pressure Pipe From the People's Republic of China: Final Results of the Expedited Second Sunset Review of the Antidumping Duty Order

AGENCY: Enforcement and Compliance, International Trade Administration, Department of Commerce.

SUMMARY: The Department of Commerce (Commerce) finds that revocation of the antidumping duty order on circular welded austenitic stainless pressure pipe (WSPP) from the People's Republic of China (China) would be likely to lead to continuation or recurrence of dumping, at the level indicated in the “Final Results of Sunset Review” section of this notice.

DATES: Applicable October 2, 2019.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On March 17, 2009, Commerce published in the Federal Register the antidumping duty order on WSPP from China.¹ On June 4, 2019, Commerce published the notice of initiation of this sunset review of the Order, pursuant to section 751(c) of the Tariff Act of 1930, as amended (the Act).² On June 13, 2019, Commerce received a timely and complete notice of intent to participate in the sunset review from Bristol Metals, LLC, Felker Brothers Corporation, and Webco Industries, Inc. (collectively, domestic interested parties), within the deadline specified in 19 CFR 351.218(d)(1)(i).³ On June 18, 2019, Commerce also received a notice of intent to participate in the sunset review from Primus Pipe & Tube, Inc. (Primus Pipe).⁴ The domestic interested parties and Primus Pipe claimed interested party status under section 771(9)(C) of the Act as manufacturers in the United States of the domestic like product.⁵

¹ See Antidumping Duty Order: Circular Welded Austenitic Stainless Pressure Pipe from the People's Republic of China, 74 FR 11351 (March 17, 2009) (Order).

² See Initiation of Five-Year (Sunset) Reviews, 84 FR 25741 (June 4, 2019).

³ See Domestic Interested Parties' Letter, “Welded Stainless Steel Pressure Pipe from China: Notice of Intent to Participate,” dated June 13, 2019 (Domestics' Notice to Participate).

⁴ See Primus Pipe's Letter, “Circular Welded Austenitic, Stainless Pressure Pipe from China: Notice of Intent to Participate,” dated June 18, 2019 (Primus Pipe's Notice to Participate).

⁵ See Domestics' Notice to Participate at 2; see also Primus Pipe's Notice to Participate at 2

On June 28, 2019, pursuant to 19 CFR 351.218(d)(3)(i), the domestic interested parties filed a timely and adequate substantive response.⁶ On July 5, 2019, Primus Pipe expressed its support for the substantive response filed by the domestic interested parties and incorporated them by reference.⁷ Commerce did not receive a substantive response from any respondent interested party. As a result, pursuant to section 751(c)(3)(B) of the Act and 19 CFR 351.218(e)(1)(ii)(C)(2), Commerce conducted an expedited (120-day) sunset review of the Order.

⁶ See Domestic Interested Parties' Letter, “Circular Welded Austenitic Stainless Pressure Pipe from the People's Republic of China, Second Review: Substantive Response to Notice of Initiation,” dated June 28, 2019.

⁷ See Primus Pipe's Letter, “Welded Stainless Steel Pipe Sunset Review: 2nd Review for China AD/CVD; 1st Review for Vietnam, Thailand and Malaysia; Substantive Response to Notice of Initiation,” dated July 5, 2019.

Scope of the Order

The merchandise covered by this order is circular welded austenitic stainless pressure pipe not greater than 14 inches in outside diameter.

The subject imports are normally classified in subheadings 7306.40.5005; 7306.40.5040, 7306.40.5062, 7306.40.5064, and 7306.40.5085 of the Harmonized Tariff Schedule of the United States (HTSUS). They may also enter under HTSUS subheadings 7306.40.1010; 7306.40.1015; 7306.40.5042, 7306.40.5044, 7306.40.5080, and 7306.40.5090. The HTSUS subheadings are provided for convenience and customs purposes only; the written description of the scope of this order is dispositive.⁸

⁸ For a complete description of the scope of the Order, see Memorandum, “Issues and Decision Memorandum for the Expedited Second Sunset Review of the Antidumping Duty Order on Circular Welded Austenitic Stainless Pressure Pipe from the People's Republic of China,” dated concurrently with, and hereby adopted by, this notice (Issues and Decision Memorandum).

Analysis of Comments Received

A complete discussion of all issues raised in this sunset review, including the likelihood of continuation or recurrence of dumping in the event of revocation of the Order and the magnitude of the margins likely to prevail if the Order were to be revoked, is provided in the accompanying Issues and Decision Memorandum, which is hereby adopted by this notice.⁹ A list of the topics discussed in the Issues and Decision Memorandum is attached as an Appendix to this notice. The Issues and Decision Memorandum is a public document and is on file electronically via Enforcement and Compliance's Antidumping and Countervailing Duty Centralized Electronic Service System (ACCESS). ACCESS is available to registered users at http://access.trade.gov and to all parties in the Central Records Unit, room B8024 of the main Commerce building. In addition, a complete version of the Issues and Decision Memorandum can be accessed on the internet at http://enforcement.trade.gov/frn/. The signed Issues and Decision Memorandum and the electronic version of the Issues and Decision Memorandum are identical in content.

⁹ Id.

Final Results of Sunset Review

Pursuant to sections 751(c)(1), 752(c)(1) and (3) of the Act, Commerce determines that revocation of the Order would be likely to lead to continuation or recurrence of dumping, and that the magnitude of the dumping margins likely to prevail would be weighted-average dumping margins up to 55.21 percent.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these results and notice in accordance with sections 751(c), 752(c), and 777(i)(1) of the Act, and 19 CFR 351.218 and 19 CFR 351.221(c)(5)(ii).

Dated: September 25, 2019.
Jeffrey I. Kessler,
Assistant Secretary for Enforcement and Compliance.

Appendix

List of Topics Discussed in the Issues and Decision Memorandum

I. Summary

II. Background

III. Scope of the Order

IV. History of the Order

V. Legal Framework

VI. Discussion of the Issues

A. Likelihood of Continuation or Recurrence of Dumping

B. Magnitude of the Margin of Dumping Likely to Prevail

VII. Final Results of Sunset Review

VIII. Recommendation

[FR Doc. 2019-21446 Filed 10-1-19; 8:45 am]

BILLING CODE 3510-DS-P